DEPARTMENT OF JUSTICE

Office of Justice Programs

[OMB Number 1121-NEW]

BJS Confidentiality Pledge Revision Notice

AGENCY: Bureau of Justice Statistics, Justice.

ACTION: 30-Day notice.

SUMMARY: The Bureau of Justice Statistics (BJS), a component of the Office of Justice Programs (OJP) in the U.S. Department of Justice (DOJ), is announcing revisions to the confidentiality pledge(s) it provides to its respondents. These revisions are required by the passage and implementation of provisions of the federal Cybersecurity Enhancement Act of 2015, which requires the Secretary of the Department of Homeland Security (DHS) to provide Federal civilian agencies' information technology systems with cybersecurity protection for their Internet traffic. More details on this announcement are presented in the SUPPLEMENTARY INFORMATION section below.

DATES: These revisions become effective on December 30, 2016.

ADDRESSES: Questions about this notice should be addressed to the Bureau of Justice Statistics, Office of Justice Programs, U.S. Department of Justice, ATTN: Allina Lee, 810 7th Street NW., Washington, DC 20151.

FOR FURTHER INFORMATION CONTACT: Allina Lee by telephone at 202-305-0765 (this is not a toll-free number); by email at Allina.Lee@usdoj.gov; or by mail or courier to the Bureau of Justice Statistics, Office of Justice Programs, U.S. Department of Justice, ATTN: Allina Lee, 810 7th Street NW., Washington, DC 20151. Because of delays in the receipt of regular mail related to security screening, respondents are encouraged to use electronic communications.

SUPPLEMENTARY INFORMATION: Federal statistics provide key information that the Nation uses to measure its performance and make informed choices about budgets, employment, health, investments, taxes, and a host of other significant topics. Most federal surveys are completed on a voluntary basis. Respondents, ranging from businesses to households to institutions, may choose whether or not to provide the requested information. Many of the most valuable federal statistics come from surveys that ask for highly sensitive information such as proprietary business data from companies or particularly personal information or practices from individuals. BJS protects all data collected under its authority under the confidentiality provisions of 42 U.S.C. 3789g. Strong and trusted confidentiality and exclusively statistical use pledges under Title 42 U.S.C. 3789g and similar statutes are effective and necessary in honoring the trust that businesses, individuals, and institutions, by their responses, place in statistical agencies.

Under statistical confidentiality protection statutes, federal statistical agencies make statutory pledges that the information respondents provide will be seen only by statistical agency personnel or their agents and will be used only for statistical purposes. These statutes protect such statistical information from administrative, law enforcement, taxation, regulatory, or any other non-statistical use and immunize the information submitted to statistical agencies from legal process. Moreover, many of these statutes carry monetary fines and/or criminal penalties for conviction of a knowing and willful unauthorized disclosure of covered information. Any person violating the confidentiality provisions of 42 U.S.C. 3789g may be punished by a fine of up to $10,000, in addition to any other penalties imposed by law.

As part of the Consolidated Appropriations Act for Fiscal Year 2016 (Pub. L. 114-113) signed on December 17, 2015, the Congress included the Federal Cybersecurity Enhancement Act of 2015 (codified in relevant part at 6 U.S.C. 151). This act, among other provisions, permits and requires the Secretary of Homeland Security to provide federal civilian agencies' information technology systems with cybersecurity protection for their Internet traffic. The technology currently used to provide this protection against cyber malware is known as Einstein 3A. Einstein 3A electronically searches internet traffic in and out of federal civilian agencies in real time for malware signatures.

When such a signature is found, the internet packets that contain the malware signature are shunted aside for further inspection by DHS personnel. Because it is possible that such packets entering or leaving a statistical agency's information technology system may contain a small portion of confidential statistical data, statistical agencies can no longer promise their respondents that their responses will be seen only by statistical agency personnel or their agents. However, federal statistical agencies can promise, in accordance with provisions of the Federal Cybersecurity Enhancement Act of 2015, that such monitoring can be used only to protect information and information systems from cybersecurity risks, thereby, in effect, providing stronger protection to the integrity of the respondents' submissions.

Consequently, with the passage of the Federal Cybersecurity Enhancement Act of 2015, the federal statistical community has an opportunity to welcome the further protection of its confidential data offered by DHS' Einstein 3A cybersecurity protection program. The DHS cybersecurity program's objective is to protect federal civilian information systems from malicious malware attacks. The federal statistical system's objective is to endeavor to ensure that the DHS Secretary performs those essential duties in a manner that honors the statistical agencies' statutory promises to the public to protect their confidential data. DHS and the federal statistical system have been successfully engaged in finding a way to balance both objectives and achieve these mutually reinforcing objectives.

However, pledges of confidentiality made pursuant to 42 U.S.C. 3789g and similar statutes assure respondents that their data will be seen only by statistical agency personnel or their agents. Because it is possible that DHS personnel could see some portion of those confidential data in the course of examining the suspicious Internet packets identified by Einstein 3A sensors, statistical agencies are revising their confidentiality pledges to reflect this process change.

Therefore, BJS is providing this notice to alert the public to these confidentiality pledge revisions in an efficient and coordinated fashion. Below is a listing of BJS's current Paperwork Reduction Act (PRA) OMB numbers and information collection titles and their associated revised confidentiality pledge(s) for the Information Collections whose confidentiality pledges will change to reflect the statutory implementation of DHS' Einstein 3A monitoring for cybersecurity protection purposes.

The following BJS statistical confidentiality pledge will now apply to the Information Collections conducted by BJS and protected under 42 U.S.C. 3789g, whose PRA OMB numbers and titles are listed below. The new lines added to address the new cybersecurity monitoring activities are bolded for reference only, and will not be bolded in the pledge provided to respondents:

“The Bureau of Justice Statistics (BJS) is dedicated to maintaining the confidentiality of your personally identifiable information, and will protect it to the fullest extent under federal law. BJS, BJS employees, and BJS data collection agents will use the information you provide for statistical purposes only, and will not disclose your information in identifiable form without your consent to anyone outside of the BJS project team. All data collected under BJS's authority are protected under the confidentiality provisions of 42 U.S.C. 3789g, and any person who violates these provisions may be punished by a fine up to $10,000, in addition to any other penalties imposed by law. Further, per the Cybersecurity Enhancement Act of 2015 (codified in relevant part at 6 U.S.C. 151), federal information systems are protected from malicious activities through cybersecurity screening of transmitted data. For more information on the federal statutes, regulations, and other authorities that govern how BJS, BJS employees, and data collection agents use, handle, and protect your information, see the BJS Data Protection Guidelines.”

OMB Control No. | Information collection title
1121-0094 | Deaths in Custody Reporting Program.
1121-0065 | National Corrections Reporting Program.

BJS has also added information about the Cybersecurity Enhancement Act and Einstein 3A to the BJS Data Protection Guidelines to provide more details to interested respondents about the new cybersecurity monitoring requirements. The following text has been added to Section V. Information System Security and Privacy Requirements:

“The Cybersecurity Enhancement Act of 2015 (codified in relevant part at 6 U.S.C. 151) required the Department of Homeland Security (DHS) to provide cybersecurity protection for federal civilian agency information technology systems and to conduct cybersecurity screening of the Internet traffic going in and out of these systems to look for viruses, malware, and other cybersecurity threats. DHS has implemented this requirement by instituting procedures such that, if a potentially malicious malware signature were found, the Internet packets that contain the malware signature would be further inspected, pursuant to any legal required legal process, to identify and mitigate the cybersecurity threat. In accordance with the Act's provisions, DHS conducts these cybersecurity screening activities solely to protect federal information and information systems from cybersecurity risks. OJP has installed DHS's cybersecurity protection software, Einstein 3A, on its information technology systems to comply with the Act's requirements and to further safeguard the information transmitted to and from its systems, including BJS data, from cybersecurity threats and vulnerabilities.”

The Census Bureau collects data on behalf of BJS for the below listing of PRA OMB numbers and information collection titles. These collections are protected under Title 13 U.S.C. Section 9. The Census Bureau issued a Federal Register notice (FRN) and submitted an emergency clearance request to OMB for revised confidentiality pledge language, with the new line to address the new cybersecurity screening requirements bolded for reference:

“The U.S. Census Bureau is required by law to proteect your information. The Census Bureau is not permitted to publicly release your responses in a way that could identify you. Per the Federal Cybersecurity Enhancement Act of 2015, your data are protected from cybersecurity risks through screening of the systems that transmit your data.”

OMB Control No. | Information collection title
1121-0111 | National Crime Victimization Survey (NCVS).
1121-0184 | School Crime Supplement to the NCVS.
1121-0317 | Identity Theft Supplement to the NCVS.
1121-0260 | Police Public Contact Supplement to the NCVS.
1121-0302 | Supplemental Victimization Survey to the NCVS.

The FRN submitted by the Census Bureau can be accessed at https://www.federalregister.gov/documents/2016/12/14/2016-30014/confidentiality-pledge-revision-notice, and the Census Bureau's PRA clearance request can be accessed at https://www.reginfo.gov/public/do/PRAViewICR?ref_nbr=201612-0607-001.

If additional information is required contact: Melody Braswell, Department Clearance Officer, United States Department of Justice, Justice Management Division, Policy and Planning Staff, Two Constitution Square, 145 N Street NE., 3E.405B, Washington, DC 20530.

Dated: December 27, 2016.
Melody Braswell,
Department Clearance Officer, U.S. Department of Justice.

[FR Doc. 2016-31705 Filed 12-29-16; 8:45 am]

BILLING CODE 4410-18-P